DEPARTMENT OF LABOR

Mine Safety and Health Administration

Petitions for Modification; Correction

AGENCY: Mine Safety and Health Administration, Labor.

ACTION: Notice; correction.

SUMMARY: The Mine Safety and Health Administration (MSHA) published a document in the Federal Register of June 17, 2010, concerning petitions for modification of existing safety standards. The document contains an under II. Petitions for Modification, Modification Request, paragraph #2.

Docket Numbers: M-2010-024-C, M-2010-025-C, M-2010-026-C, M-2010-027-C, and M-2010-028-C.

Petitioners: Panther Mining, LLC, Mine #1, MSHA I.D. No. 15-18198, located in Harlan County, Kentucky (Docket No. M-2010-024-C); North Fork Coal Corp., Mine #5, MSHA I.D. No. 15-18732 (Docket No. M-2010-025-C) and Mine #4, MSHA I.D. No. 15-18340 (Docket No. M-2010-026-C), located in Letcher County, Kentucky; and Stillhouse Mining, LLC, Mine #1, MSHA I.D. No. 15-17165 (Docket No. M-2010-027-C) and Mine #2, MSHA I.D. No. 15-18869 (Docket No. M-2010-028-C), located in Harlan County, Kentucky.

Regulation Affected: 30 CFR 75.507-1(a) (Electric equipment other than power-connection points; outby the last open crosscut; return air; permissibility requirements).

FOR FURTHER INFORMATION CONTACT: Barbara Barron, 202-693-9447 or Roslyn Fontaine, 202-693-9475.

Correction:

In the Federal Register of June 17, 2010, on page 34486, under Modification Request, paragraph #2 should read: (2) the maximum length of the 480-volt power for permissible pumps will be 4000 feet.

Dated: July 12, 2010.
Patricia W. Silvey,
Director, Office of Standards, Regulations and Variances.

[FR Doc. 2010-17322 Filed 7-15-10; 8:45 am]

BILLING CODE 4510-43-P